DEPARTMENT OF COMMERCE

National Oceanic and Atmospheric Administration

RIN 0648-XA779

South Atlantic Fishery Management Council; Public Meetings

AGENCY: National Marine Fisheries Service (NMFS), National Oceanic and Atmospheric Administration, Commerce.

ACTION: Notice of public hearing series.

SUMMARY: The South Atlantic Fishery Management Council (Council) will hold a series of public hearings regarding Amendments 18A, 20A, and 24 to the Snapper Grouper Fishery Management Plan (FMP) for the South Atlantic Region. See SUPPLEMENTARY INFORMATION.

Dates and Location: The series of seven public hearings will be held from November 14, 2011 through December 6, 2011. The hearings will be held from 4 p.m. until 7 p.m. with the exception of two hearings. The hearings on November 15, 2011 in Charleston, SC and the hearing on December 6, 2011 in Raleigh, NC will be conducted from 5:30 p.m.-7:30 p.m. Note that in some cases consecutive hearings will be held on the same date. Council staff will present an overview of the amendments and will be available for informal discussions and to answer questions. Members of the public will have an opportunity to go on record at any time during the meeting hours to record their comments on the public hearing topics for consideration by the Council. Local Council representatives will attend the meetings and take public comment. Written comments will be accepted from October 21, 2011 until 5 p.m. on November 21, 2011, See SUPPLEMENTARY INFORMATION.

SUPPLEMENTARY INFORMATION: Amendment 18A is being developed by the Council to address overcapacity in the commercial black sea bass pot fishery and reduce the rate of harvest for both commercial and recreational sectors. The amendment includes actions to limit participation and effort in the black sea bass pot fishery, limit bycatch in the commercial pot fishery, and modify the current system of accountability measures. Management measures being considered include increases in size limits, decreases in bag limits, a commercial trip limit, and a spawning season closure. The amendment also includes actions to update management parameters based on the 2011 Southeast Data, Assessment and Review (SEDAR) stock assessment for black sea bass, consider modifications to the rebuilding strategy to account for an increasing biomass, and improve the accuracy, timing and quantity of fisheries data.

Amendment 20A addresses the current Individual Transferable Quota (ITQ) program currently in place for the wreckfish fishery. The amendment includes measures to adjust the distribution of wreckfish shares in order to remove inactive effort and allow the commercial sector's Annual Catch Limit (ACL) to be harvested effectively.

Amendment 24 to the Snapper Grouper FMP addresses the implementation of a rebuilding plan for red grouper in the South Atlantic as required by the Magnuson-Stevens Fishery Conservation and Management Act (MSFCMA). The rebuilding plan would specify ACLs, annual catch targets and accountability measures for the red grouper fishery. The amendment also establishes sector allocations.

Public Hearing Schedule:

1. November 14, 2011—Avista Resort, 300 N. Ocean Blvd., North Myrtle Beach, SC 29582; telephone: (843) 249-2521;

2. November 14, 2011—Hampton Inn & Suites Savannah/Midtown, 20 Johnson Street, Savannah, GA 31405; telephone: (912) 721-3700;

3. November 15, 2011—Charleston Marriott Hotel, 170 Lockwood Blvd., Charleston, SC 29403; telephone: (843) 723-3000;

4. November 15, 2011—Jacksonville Marriott, 4670 Salisbury Road, Jacksonville, FL 32256; telephone: (904) 296-2222;

5. November 16, 2011—Radisson Resort at the Port, 8701 Astronaut Boulevard, Cape Canaveral, FL 32920; telephone: (321) 784-0000;

6. November 17, 2011—Key Largo Bay Marriott, 103800 Overseas Hwy., Key Largo, FL 33037; telephone: (305) 453-0000;

7. December 6, 2011—Holiday Inn Brownstone, 1707 Hillsborough Street, Raleigh, NC 27605; Phone: (919) 828-0811.

ADDRESSES: Written comments should be sent to Bob Mahood, Executive Director, South Atlantic Fishery Management Council, 4055 Faber Place Drive, Suite 201, North Charleston, SC 29405, or via e-mail to: SGAmend18APHcomment@safmc.net for Amendment 18A (black sea bass); SGAmend20APHcomment@safmc.net for Amendment 20A (wreckfish); and SGAmend24PHcomment@safmc.net for Amendment 24 (red grouper) to the Snapper Grouper FMP. Written comments will be received from October 21, 2011 until 5 p.m. on November 21, 2011.

Copies of the public hearing documents are available by contacting Kim Iverson, Public Information Officer, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; e-mail address: kim.iverson@safmc.net.

Special Accommodations

These meetings are physically accessible to people with disabilities. Requests for sign language interpretation or other auxiliary aids should be directed to the Council office (see ADDRESSES) 3 days prior to the start of each meeting.

Dated: October 19, 2011.
Tracey L. Thompson,
Acting Director, Office of Sustainable Fisheries, National Marine Fisheries Service.

[FR Doc. 2011-27390 Filed 10-21-11; 8:45 am]

BILLING CODE 3510-22-P